DEPARTMENT OF COMMERCE

National Institute of Standards and Technology

National Construction Safety Team Advisory Committee Meeting

AGENCY: National Institute of Standards and Technology, United States Department of Commerce.

ACTION: Notice of partially closed meeting.

SUMMARY: The National Construction Safety Team (NCST) Advisory Committee (Committee), National Institute of Standards and Technology (NIST), will meet on Monday, November 22, 2004, from 8 a.m. to 6 p.m. The primary purpose of the open portion of the meeting, from 8 a.m. to 10 a.m., will be to discuss preparation of the NCST Advisory Committee Annual Report to Congress. The final agenda will be posted on the NIST Web site at http://www.nist.gov/ncst.

DATES: The meeting will convene on November 22, 2004, at 8 a.m. and will adjourn at 6 p.m. on November 22, 2004. The first portion of the meeting from 8 a.m. to 10 a.m. will be open to the public. The closed portion of the meeting is scheduled to begin at 10 a.m. and to end at 6 p.m.

ADDRESSES: The meeting will be held in the Administration Building, Lecture Room B, at NIST, Gaithersburg, Maryland. Please note admittance instructions under the SUPPLEMENTARY INFORMATION section of this notice.

FOR FURTHER INFORMATION CONTACT: Stephen Cauffman, National Construction Safety Team Advisory Committee, National Institute of Standards and Technology, 100 Bureau Drive, MS 8611, Gaithersburg, Maryland 20899-8611. Mr. Cauffman's e-mail address is stephen.cauffman@nist.gov and his phone number is (301) 975-6051.

SUPPLEMENTARY INFORMATION: The Committee was established pursuant to Section 11 of the National Construction Safety Team Act (15 U.S.C. 7310 et seq.). The Committee is composed of nine members appointed by the Director of NIST who were selected for their technical expertise and experience, established records of distinguished professional service, and their knowledge of issues affecting teams established under the NCST Act. The Committee will advise the Director of NIST on carrying out investigations of building failures conducted under the authorities of the NCST Act that became law in October 2002 and will review the procedures developed to implement the NCST Act and reports issued under section 8 of the NCST Act. Background information on the NCST Act and information on the NCST Advisory Committee is available at http://www.nist.gov/ncst.

Pursuant to the Federal Advisory Committee Act, 5 U.S.C. app. 2, notice is hereby given that the National Construction Safety Team (NCST) Advisory Committee (Committee), National Institute of Standards and Technology (NIST), will meet Monday, November 22, 2004, from 8 a.m. to 6 p.m. at NIST headquarters in Gaithersburg, Maryland. The primary purpose of the open portion of the meeting, from 8 a.m. to 10 a.m., will be to discuss preparation of the NCST Advisory Committee Annual Report to Congress. The Assistant Secretary for Administration, with the concurrence of the General Counsel, formally determined on November 1, 2004, that portions of the meeting of the National Construction Safety Team Advisory Committee that involve discussions regarding the proprietary information and trade secrets of third parties, data and documents that may also be used in criminal cases or lawsuits, matters the premature disclosure of which would be likely to significantly frustrate implementation of a proposed agency action, and data collection status and the issuance of subpoenas may be closed in accordance with 5 U.S.C. 552b(c)(4), (5), (9)(B), and (10) respectively. The closed portion of the meeting is scheduled to begin at 10 a.m. and end at 6 p.m. on November 22. All other portions of the meeting will be open to the public.

Individuals and representatives of organizations who would like to offer comments and suggestions related to the Committee's affairs or the WTC Investigation are invited to request a place on the agenda. On November 22, 2004, approximately fifteen minutes will be reserved for public comments at the beginning of the open session. Speaking times will be assigned on a first-come, first-served basis. The amount of time per speaker will be determined by the number of requests received, but is likely to be no more than 3 to 5 minutes each. Questions from the public will not be considered during this period. Speakers who wish to expand upon their oral statements, those who had wished to speak but could not be accommodated on the agenda, and those who were unable to attend in person are invited to submit written statements to the National Construction Safety Team Advisory Committee, National Institute of Standards and Technology, 100 Bureau Drive, MS 8611, Gaithersburg, Maryland 20899-8611, via fax at (301) 975-6122, or electronically by e-mail to ncstac@nist.gov.

All visitors to the NIST site are required to pre-register to be admitted. Anyone wishing to attend this meeting must register by close of business Wednesday, November 17, 2004, in order to attend. Please submit your name, time of arrival, e-mail address and phone number to Stephen Cauffman and he will provide you with instructions for admittance. Non-U.S. citizens must also submit their country of citizenship, title, employer/sponsor, and address. Mr. Cauffman's e-mail address is stephen.cauffman@nist.gov and his phone number is (301) 975-6051.

Dated: November 2, 2004.
Hratch G. Semerjian,
Acting Director.

[FR Doc. 04-24754 Filed 11-4-04; 8:45 am]

BILLING CODE 3510-13-P